DEPARTMENT OF THE TREASURY

Community Development Financial Institutions Fund

Proposed Collection; Comment Request

SUMMARY: The U.S. Department of the Treasury, as part of its continuing effort to reduce paperwork and respondent burden, invites the general public and other federal agencies to take this opportunity to comment on proposed and/or continuing information collections, as required by the Paperwork Reduction Act of 1995, Public Law 104-13 (44 U.S.C. 3506(c)(2)(A)). Currently, the Community Development Financial Institutions Fund (CDFI Fund), U.S. Department of the Treasury, is soliciting comments concerning the Community Development Financial Institutions (CDFI) Program Application and the Native American CDFI Assistance (NACA) Program Application.

DATES: Written comments should be received on or before April 13, 2015 to be assured of consideration.

ADDRESSES: Direct all comments to Mark Kudlowitz, Acting Program Manager, CDFI Program and Native Initiatives, at the Community Development Financial Institutions Fund, U.S. Department of the Treasury, 1500 Pennsylvania Avenue NW., Washington, DC 20020, by email to cdfihelp@cdfi.treas.gov or by facsimile to (202) 508-0089. Please note this is not a toll free number.

FOR FURTHER INFORMATION CONTACT: Requests for additional information should be directed to Mark Kudlowitz, Acting Program Manager, CDFI Program and Native Initiatives, at the Community Development Financial Institutions Fund, U.S. Department of the Treasury, 1500 Pennsylvania Avenue NW., Washington, DC 20020 by email to cdfihelp@cdfi.treas.gov or by facsimile to (202) 508-0089. Please note this is not a toll free number.

SUPPLEMENTARY INFORMATION:

Title: CDFI Program Application.

OMB Number: 1559-0021.

Type of Review: Non-Material revision to an existing Information Collection.

Abstract: The purpose of the CDFI Program and the NACA Program is to use federal resources to invest in CDFIs and to build their capacity to serve low-income people and communities that lack access to affordable financial products and services. The CDFI Fund is soliciting comments concerning the submission of supplemental application materials through a CDFI Fund-managed web-based application portal beginning in fiscal year 2016. This portal will allow CDFI Program and NACA Program applicants to complete and upload supplemental application information directly into the CDFI Fund-managed web-based application portal instead of uploading multiple attachments into the Grants.gov portal. Applicants will still be required to complete and submit the Office of Management and Budget's (OMB) official Application for Federal Assistance, Standard Form 424 (SF-424) via Grants.gov.

The proposed CDFI Fund-managed web-based process to submit supplemental application materials is expected to reduce the time needed to complete the CDFI Program and NACA Program Applications for all applicants. It is anticipated that certain demographic information already submitted within CDFI Fund managed information management systems will pre-populate certain data for applicants. Additionally, it is anticipated that, along with the demographic information, historical financial information supplied in previous applications will be pre-filled for prior applicants.

Type of Review: Non-Material revision to an existing Information Collection.

Affected Public: Private Sector: Businesses or other for-profits, Not-for-profit institutions; State, Local, and Tribal Governments.

Current Estimated Number of Respondents: 200.

Current Estimated Annual Time per Respondent: 100.5 hours.

Current Estimated Total Annual Burden Hours: 20,100 hours.

Requests for Comments: Comments submitted in response to this notice will be summarized and/or included in the request for OMB approval. All comments will become a matter of public record and may be published on the CDFI Fund Web site at http://www.cdfifund.gov. Comments are invited on: (a) Whether the collection of information is necessary for the proper performance of the functions of the agency, including whether the information has practical utility; (b) the accuracy of the agency's estimate of the burden of the collection of information; (c) ways to enhance the quality, utility, and clarity of the information to be collected; and (d) ways to minimize the burden of the collection of information on respondents, including through the use of automated collection techniques or other forms of information technology.

Authority: 12 U.S.C. 4707; 12 CFR part 1805.

Dated: February 4, 2015.
Annie Donovan,
Director, Community Development Financial Institutions Fund.

[FR Doc. 2015-02779 Filed 2-10-15; 8:45 am]

BILLING CODE 4810-70-P